DEPARTMENT OF TRANSPORTATION

Federal Aviation Administration

14 CFR Part 97

[Docket No. 30498; Amdt. No. 3170]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 14, 2006. The compliance date for each SIAP and/or Weather Takeoff Minimums is specified in the amendatory provisions.

The incorporation by reference of certain publications listed in the regulations is approved by the Director of the Federal Register as of June 14, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 19, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 03 August 2006

Kotzebue, AK, Ralph Wien Memorial, ILS OR LOC/DME RWY 8, Orig-B

Fullerton, CA, Fullerton Muni, LOC/DME RWY 24, Orig

Fullerton, CA, Fullerton Muni, LOC RWY 24, Amdt 4, CANCELLED

Pompano Beach, FL, Pompano Beach Airpark, RNAV (GPS) RWY 6, Orig

Pompano Beach, FL, Pompano Beach Airpark, RNAV (GPS) RWY 15, Orig

Pompano Beach, FL, Pompano Beach Airpark, RNAV (GPS) RWY 24, Orig

Pompano Beach, FL, Pompano Beach Airpark, RNAV (GPS) RWY 33, Orig

Pompano Beach, FL, Pompano Beach Airpark, GPS RWY 15, Orig, CANCELLED

Pompano Beach, FL, Pompano Beach Airpark, GPS RWY 33, Orig, CANCELLED

Pompano Beach, FL, Pompano Beach Airpark, LOC RWY 15, Amdt 3

Brunswick, GA, Brunswick Golden Isles, Takeoff Minimums and Textual DP, Orig

Brunswick, GA, Brunswick Golden Isles, RNAV (GPS) RWY 7, Orig

Brunswick, GA, Brunswick Golden Isles, RNAV (GPS) RWY 25, Orig

Brunswick, GA, Brunswick Golden Isles, GPS RWY 7, Orig, CANCELLED

Brunswick, GA, Brunswick Golden Isles, GPS RWY 25, Orig, CANCELLED

Brunswick, GA, Brunswick Golden Isles, VOR/DME-B, Amdt 8

Rome, GA, Richard B. Russell, Takeoff Minimums and Textual DP, Amdt 3

Ottumwa, IA, Ottumwa Industrial, RNAV (GPS) RWY 13, Orig

Ottumwa, IA, Ottumwa Industrial, VOR/DME RWY 13, Amdt 7

Tallulah, LA, Vicksburg Tallulah Regional, RNAV (GPS) RWY 36, Amdt 3

Bellaire, MI, Antrim County, RNAV (GPS) RWY 2, Orig

Bellaire, MI, Antrim County, GPS RWY 2, Orig-C, CANCELLED

Bellaire, MI, Antrim County, Takeoff Minimums and Textual DP, Amdt 6

Holland, MI, Park Township, NDB OR GPS RWY 23, Amdt 2B, CANCELLED

Holland, MI, Park Township, Takeoff Minimums and Textual DP, Amdt 2, CANCELLED

Howell, MI, Livingston County Spencer J. Hardy, RNAV (GPS) RWY 13, Amdt 1

Howell, MI, Livingston County Spencer J. Hardy, RNAV (GPS) RWY 31, Orig

Howell, MI, Livingston County Spencer J. Hardy, VOR RWY 31, Amdt 11

Howell, MI, Livingston County Spencer J. Hardy, Takeoff Minimums and Textual DP, Amdt 3

Jackson, MS, Jackson-Evers Intl, LOC BC RWY 16R, Amdt 5, CANCELLED

York, NE, York Municipal, RNAV (GPS) RWY 17, Amdt 1

Wildwood, NJ, Cape May County, LOC RWY 19, Amdt 6

Wildwood, NJ, Cape May County, VOR-A, Amdt 3

Wildwood, NJ, Cape May County, RNAV (GPS) RWY 10, Orig

Wildwood, NJ, Cape May County,GPS RWY 10, Orig-B, CANCELLED

Wildwood, NJ, Cape May County, Takeoff Minimums and Textual DP, Amdt 3

Chapel Hill, NC, Horace Williams, Takeoff Minimums and Textual DP, Amdt 3

Raleigh-Durham, NC, Raleigh-Durham Intl, Takeoff Minimums and Textual DP, Amdt 5

Roxboro, NC, Person County, Takeoff Minimums and Textual DP, Orig

Wilmington, NC, Wilmington Intl, RNAV (GPS) RWY 6, Amdt 1

Wilmington, NC, Wilmington Intl, RNAV (GPS) RWY 17, Amdt 1

Wilmington, NC, Wilmington Intl, RNAV (GPS) RWY 24, Amdt 1

Wilmington, NC, Wilmington Intl, RNAV (GPS) RWY 35, Amdt 1

Aberdeen, SD, Aberdeen Regional, RNAV (GPS) RWY 35, Orig

Aberdeen, SD, Aberdeen Regional, GPS RWY 35, Orig-B, CANCELLED

Culpeper, VA, Culpeper Regional, LOC RWY 4, Orig

Culpeper, VA, Culpeper Regional, NDB RWY 4, Orig

Christiansted, St. Croix, VI, Henry E Rohlsen, Takeoff Minimums and Textual DP, Amdt 8

* * * Effective 28 September 2006

Denver, CO, Jeffco, VOR/DME RNAV RWY 29R, Orig, CANCELLED

Fort Collins (Loveland), CO, Fort Collins-Loveland Muni, VOR/DME RNAV RWY 15, Amdt 4C, CANCELLED

Fort Collins (Loveland), CO, Fort Collins-Loveland Muni, VOR/DME RNAV RWY 33, Amdt 5A, CANCELLED

Carrollton, OH, Carroll County-Tolson, NDB OR GPS RWY 25, Amdt 5A, CANCELLED

Portland, OR, Portland-Hillsboro, NDB-B, Amdt 2, CANCELLED

Portland, OR, Portland Intl, NDB RWY 28L, Amdt 5, CANCELLED

Portland, OR, Portland Intl, NDB RWY 28R, Amdt 11A, CANCELLED

Ogden, UT, Ogden-Hinckley, VOR/DME RNAV RWY 3, Orig-A, CANCELLED

Roosevelt, UT, Roosevelt Muni, VOR/DME RNAV RWY 25, Amdt 2A, CANCELLED

Bellingham, WA, Bellingham Intl, NDB RWY 16, Amdt 1B, CANCELLED

Kelso, WA, Kelso-Longview, NDB OR GPS-A, Amdt 5C, CANCELLED

Shelton, WA, Sanderson Field, NDB OR GPS-A, Amdt 2, CANCELLED

[FR Doc. 06-5321 Filed 6-13-06; 8:45 am]

BILLING CODE 4310-13-P